DEPARTMENT OF THE INTERIOR

Bureau of Land Management

[LLOR936000-L14300000-ET0000; HAG-12-0285; WAOR-48056]

Public Land Order No. 7805; Extension of Public Land Order No. 6952; WA

AGENCY: Bureau of Land Management, Interior.

ACTION: Notice.

SUMMARY: This order extends the duration of the withdrawal created by Public Land Order No. 6952 as corrected by Public Land Order No. 6962, for an additional 20-year period. The extension is necessary to continue protection of the tree improvement and forest research activities of the Peony, Pole Pick, and Frank Burge Seed Orchards, Washington, which would otherwise expire on November 11, 2012.

DATES: Effective Date: November 12, 2012.

FOR FURTHER INFORMATION CONTACT: Michael L. Barnes, Bureau of Land Management, Oregon/Washington State Office, 503-808-6155, or Dianne Torpin, United States Forest Service, Pacific Northwest Region, 503-808-2422. Persons who use a telecommunications device for the deaf (TDD) may call the Federal Information Relay Service (FIRS) at 1-800-877-8339 to contact either of the above individuals during normal business hours. The FIRS is available 24 hours a day, 7 days a week, to leave a message or question with either of the above individuals. You will receive a reply during normal business hours.

SUPPLEMENTARY INFORMATION: The purpose for which the withdrawal was first made requires this extension to continue protection of the Peony, Pole Pick, and Frank Burge Seed Orchards in the Okanogan-Wenatchee National Forest. The withdrawal extended by this order will expire on November 11, 2032, unless as a result of a review conducted prior to the expiration date pursuant to Section 204(f) of the Federal Land Policy and Management Act of 1976, 43 U.S.C. 1714(f), the Secretary determines that the withdrawal shall be further extended.

Order

By virtue of the authority vested in the Secretary of the Interior by Section 204 of the Federal Land Policy and Management Act of 1976, 43 U.S.C. 1714, it is ordered as follows:

Public Land Order No. 6952 (57 FR 53587 (1992)), as corrected by Public Land Order No. 6962 (58 FR 18163 (1993)), which withdrew 110.00 acres of National Forest System lands from location and entry under the United States mining laws, but not from leasing under the mineral leasing laws, to protect the Peony, Pole Pick, and Frank Burge Seed Orchards, is hereby extended for an additional 20-year period until November 11, 2032.

Dated: October 16, 2012.
Rhea S. Suh,
Assistant Secretary—Policy, Management and Budget.

[FR Doc. 2012-26913 Filed 11-2-12; 8:45 am]

BILLING CODE 4310-11-P